DEPARTMENT OF AGRICULTURE

Forest Service

Okanogan-Wenatchee National Forest; Washington; Forest Plan Amendment for Planning and Management of Domestic Sheep and Goat Grazing Within the Range of Bighorn Sheep; Correction

AGENCY: Forest Service, Agriculture (USDA).

ACTION: Correction to notice of intent to prepare an environmental impact statement.

SUMMARY: The USDA Forest Service published a notice of intent (NOI) to prepare an environmental impact statement (EIS) in the Federal Register on May 17, 2019 (84 FR 22432). The NOI served as the scoping document for the Forest Plan Amendment for Planning and Management of Domestic Sheep and Goat Grazing Within the Range of Bighorn Sheep for the Okanogan-Wenatchee National Forest (Forest). After the initial 2019 scoping effort, the Forest determined the need to update the NOI with new dates for the draft EIS and final EIS, new contact information, revised need for action, revised proposed action, preliminary alternatives, and nature of the decision to be made.

DATES: Comments concerning the scope of the analysis must be received by April 3, 2023. The draft EIS is expected December 2023 and the final EIS is expected December 2024.

ADDRESSES: Send written comments to: Okanogan-Wenatchee National Forest, Domestic Sheep EIS, 215 Melody Lane, Wenatchee, Washington 98801. Written comments can be submitted in person at the above address during regular business hours between 8:00 a.m. and 4:30 p.m., Pacific Time, Monday through Friday. Comments may also be submitted online at https://www.fs.usda.gov/project/?project=53257 or via facsimile to 509-664-9280.

FOR FURTHER INFORMATION CONTACT: Stacy Lundgren, Environmental Coordinator, via email at stacy.lundgren@usda.gov. Individuals who use telecommunication devices for the deaf (TDD) may call the Federal Relay Service (FRS) at 1-800-877-8339, 24 hours a day, every day of the year, including holidays.

SUPPLEMENTARY INFORMATION:

Purpose and Need for Action

The purpose for this action remains the same as described in the 2019 NOI found here: https://www.govinfo.gov/content/pkg/FR-2019-05-17/pdf/2019-10266.pdf. The need has been revised to address new concerns related to existing allotment management plans.

To address these concerns, the Forest needs to amend both the Okanogan and Wenatchee Forest Plans to identify which existing grazing allotments are suitable or unsuitable for domestic sheep and goat grazing. The Forest also needs to identify potential site-specific grazing opportunities which could be made available to existing sheep permittees on the Forest. In contrast to the 2019 NOI, the proposed plan amendments and allotment analyses will not address grazing allotments on the Tonasket Ranger District, as that unit is now administered by the Colville National Forest.

Proposed Action

The revised proposed action would: (1) amend the Okanogan and Wenatchee Forest Plans to provide guidance for where domestic livestock grazing might be feasible and appropriate; and (2) develop site-specific allotment management plans for grazing of domestic livestock, including sheep, goats, and cattle.

While the Forest is currently managed as one administrative unit, forest plans were completed separately and were signed prior to the Regional Forester identifying bighorn sheep as a sensitive species. The proposed forest-wide plan amendment would add plan components to both forest plans to support management of domestic livestock grazing while mitigating disease transmission risk to bighorn sheep. Disease trasnmission risk factors that may be analyzed include bighorn sheep management and herd dynamics, local topography, spatial or temporal separation, other herd characteristics, or range management actions.

In addition to forest plan components, site-specific conditions relative to risk of disease transmission between bighorn sheep and domestic livestock would be evaluated for each allotment. Domestic livestock grazing conditions, including but not limited to continuing sheep and goat grazing, switching from sheep and goat to cattle grazing, keeping allotments vacant, or closing allotments would be evaluated to determine how best to meet the need for action.

Preliminary Alternatives

The Forest has developed six preliminary alternatives: no action, current management strategies, no domestic livestock grazing, separation area delinations, allotment-by-allotment suitability determinations, and modified zone management.

Expected Impacts

The Forest will evaluate the proposed action and alternatives for potentially significant impacts including changes in the abundance and distribution of bighorn sheep, increased risk of disease transmission to bighorn sheep that result in population declines, changes in bighorn sheep viewing and hunting opportunities, changes to range conditions due to modification of grazing practices, and effects to local economies.

Lead and Cooperating Agencies

The USDA Forest Service is the lead agency for the analysis in compliance with the National Environmental Policy Act. The two cooperating agencies include the USDA Agricultural Research Service (ARS) and the Washington Department of Fish and Wildlife (WDFW) as described here: https://www.govinfo.gov/content/pkg/FR-2019-05-17/pdf/2019-10266.pdf.

Responsible Official

The responsible official who will approve the Record of Decision is the Okanogan-Wenatchee National Forest Supervisor.

Scoping Comments and the Objection Process

This notice of intent re-opens the scoping process that was initiated in the NOI published in the Federal Register in May 2019. Because the Forest continues to use the information received during the original comment period associated with the 2019 NOI, those comments need not be resubmitted. Comments submitted in response to this updated NOI will also be considered, and all comments will guide the development of the draft environmental impact statement. The Agency is requesting comments on potential alternatives and impacts, and identification of any relevant information, studies, or analyses concerning impacts that may affect the quality of the environment.

It is important that reviewers provide their comments at such times and in such manner that they are useful to the agency's preparation of the environmental impact statement. Therefore, comments should be provided prior to the close of the comment period and should clearly articulate the reviewer's concerns and contentions.

The proposed action is subject to objection under Forest Service regulations found at 36 CFR 218 and 36 CFR 219. Commenting during scoping and any other designated opportunity to comment provided by the Responsible Official will establish eligibility to object once the final EIS and Draft Record of Decision have been published. Comments received in response to this solicitation, including names and addresses of those who comment, will be part of the public record for this proposed action. Comments submitted anonymously will be accepted and considered, however, they cannot be used to establish eligibility for the objection process.

Nature of Decision To Be Made

The Responsible Official will decide whether to approve the proposed amendment for the two Forest Plans to establish new plan components for domestic sheep and goat grazing on NFS lands within the range of the bighorn sheep and decide on site-specific allotment management for grazing of domestic sheep, goats, and cattle.

Substantive Provisions

In accordance with the regulation at 36 CFR 219.6, when evaluating an amendment for a Forest Plan, “the responsible official has the discretion to determine the scope, scale, and timing of an assessment . . . .” As per 36 CFR 219.13(b)(5), the responsible official shall, “[d]etermine which specific substantive requirement(s) within 219.8 through 219.11 are directly related to the plan direction being added, modified, or removed by the amendment and apply such requirement(s) within the scope and scale of the amendment.” With the proposed amendment, the relevant substantive requirements include: 219.6(b)(6): Social, cultural, and economic conditions relevant to the plan area; 219.8(a)(1)(ii): Contributions of the plan area to ecological conditions within the broader landscape influenced by the plan area; 219.9(a)(2)(i): Key characteristics associated within terrestrial and aquatic ecosystem types; and 219.10(a)(7): Reasonably foreseeable risks to ecological, social, and economic sustainability.

Dated: February 10, 2023.
Troy Heithecker,
Associate Deputy Chief, National Forest System.

[FR Doc. 2023-03354 Filed 2-16-23; 8:45 am]

BILLING CODE 3411-15-P